DEPARTMENT OF TRANSPORTATION

Federal Aviation Administration

Twenty Sixth RTCA SC-225 Rechargeable Lithium Batteries and Battery Systems Plenary

AGENCY: Federal Aviation Administration (FAA), U.S. Department of Transportation (DOT).

ACTION: Twenty Sixth RTCA SC-225 Rechargeable Lithium Batteries and Battery Systems Plenary.

SUMMARY: The FAA is issuing this notice to advise the public of a meeting of Twenty Sixth RTCA SC-225 Rechargeable Lithium Batteries and Battery Systems Plenary.

DATES: The meeting will be held November 29 to December 01, 2016, 9:00 a.m.-5:00 p.m.

ADDRESSES: The meeting will be held at: RTCA Headquarters, 1150 18th Street NW., Suite 910, Washington, DC 20036.

FOR FURTHER INFORMATION, CONTACT: Karan Hofmann at khofmann@rtca.org or 202-330-0680, or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Twenty Sixth RTCA SC-225 Rechargeable Lithium Batteries and Battery Systems Plenary. The agenda will include the following:

Tuesday, November 29, 2016 9:00 a.m. to 5:00 p.m.

1. Introductions and administrative items (including DFO & RTCA Statement) (15 min)

2. Review agenda (5 min)

3. Review and approve summary from the last Plenary (10 min)

4. Review and approve Working Group FRAC disposition (0.5 hours)

5. Adjourn to Working Group; disposition of comments (2 hours)

6. Lunch (12:00 p.m. EDT—1 hour)

7. Adjourn to Working Group; disposition of comments (4 hours)

8. Adjourn

Wednesday, November 30, 2016 9:00 a.m. to 5:00 p.m.

1. Convene Plenary to approve previous Working Group efforts

2. Adjourn to Working Group; disposition of comments

3. Lunch (12:00 p.m. EDT—1 hour)

4. Working Group disposition of comments

5. Adjourn

Thursday, December 1, 2016 9:00 a.m. to 5:00 p.m.

1. Convene Plenary to approve previous Working Group efforts

2. Adjourn to Working Group; disposition of comments

3. Lunch (12:00 p.m. EDT—1 hour)

4. Convene Plenary

5. Delegate any remaining actions to Working Group as applicable

6. Schedule additional Plenary if required

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 21, 2016.
Mohannad Dawoud,
Management & Program Analyst, Partnership Contracts Branch, ANG-A17, NextGen, Procurement Services Division, Federal Aviation Administration.

[FR Doc. 2016-25874 Filed 10-25-16; 8:45 am]

BILLING CODE 4910-13-P